DEPARTMENT OF HEALTH AND HUMAN SERVICES

Health Resources and Services Administration

Advisory Committee on Training in Primary Care Medicine and Dentistry Meeting Cancellation

AGENCY: Health Resources and Services Administration; Department of Health and Human Services.

ACTION: Notice of meeting cancellation.

SUMMARY: This is to notify the public that the March 25-26, 2024, meeting of the Advisory Committee on Training in Primary Care Medicine and Dentistry is cancelled.

FOR FURTHER INFORMATION CONTACT: Shane Rogers, Designated Federal Officer, Advisory Committee on Training in Primary Care Medicine and Dentistry, 5600 Fishers Lane, Room 15N142, Rockville, Maryland 20857, telephone: (301) 443-5260 or email: srogers@hrsa.gov.

SUPPLEMENTARY INFORMATION: This meeting was announced in the Federal Register on Friday, December 15, 2023 (88 FR 86909). Future meetings will be held on August 2, 2024, and another date this calendar year that will be announced at least 30 days before the meeting date through the Federal Register.

Maria G. Button,
Director, Executive Secretariat.

[FR Doc. 2024-03261 Filed 2-15-24; 8:45 am]

BILLING CODE 4165-15-P